NUCLEAR REGULATORY COMMISSION

10 CFR Part 72

[NRC-2016-0138]

RIN 3150-AJ78

List of Approved Spent Fuel Storage Casks: EnergySolutions™ Corporation, VSC-24 Ventilated Storage Cask System, Renewal of Initial Certificate and Amendment Nos. 1-6

AGENCY: Nuclear Regulatory Commission.

ACTION: Direct final rule; confirmation of effective date.

SUMMARY: The U.S. Nuclear Regulatory Commission (NRC) is confirming the effective date of September 20, 2017, for the direct final rule that was published in the Federal Register on July 7, 2017. This direct final rule amended the NRC's spent fuel storage regulations by revising the EnergySolutions™ Corporation's VSC-24 Ventilated Storage Cask System listing within the “List of Approved Spent Fuel Storage Casks” to renew, for an additional 40 years, the initial certificate and Amendment Nos. 1-6 of Certificate of Compliance (CoC) No. 1007.

DATES: Effective date: The effective date of September 20, 2017, for the direct final rule published July 7, 2017 (82 FR 31433), is confirmed.

ADDRESSES: Please refer to Docket ID NRC-2016-0138 when contacting the NRC about the availability of information for this action. You may obtain publicly-available information related to this action by any of the following methods:

• Federal Rulemaking Web site: Go to http://www.regulations.gov and search for Docket ID NRC-2016-0138. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Robert D. MacDougall, Office of Nuclear Material Safety and Safeguards, U.S. Nuclear Regulatory Commission, Washington, DC 20555-0001; telephone: 301-415-5175; email: Robert.MacDougall@nrc.gov.

SUPPLEMENTARY INFORMATION: On July 7, 2017 (82 FR 31433), the NRC published a direct final rule amending its regulations in part 72 of title 10 of the Code of Federal Regulations to renew, for an additional 40 years, the initial certificate and Amendment Nos. 1-6 of CoC No. 1007. The renewal requires cask users to establish, implement, and maintain written procedures for aging management program (AMP) elements, including a lead cask inspection program, for VSC-24 Storage Cask structures, systems, and components (SSCs) important to safety. Users must also conduct periodic “tollgate” assessments of new information on SSC aging effects and mechanisms to determine whether any element of an AMP addressing these effects and mechanisms requires revision to encompass the current state of knowledge. In addition, the renewal of the initial certificate and Amendment Nos. 1-6 makes several other changes, described the Federal Register notice for the direct final rule.

In the direct final rule, the NRC stated that if no significant adverse comments were received, the direct final rule would become effective on September 20, 2017. The NRC did not receive any comments on the direct final rule. Therefore, this direct final rule will become effective as scheduled. The final CoC, Technical Specifications, and Safety Evaluation Report can be viewed in ADAMS under Package Accession No. ML17242A189.

Dated at Rockville, Maryland, this 15th day of September, 2017.
For the Nuclear Regulatory Commission.
Helen Chang,
Acting Chief, Rules, Announcements, and Directives Branch, Division of Administrative Services, Office of Administration.

[FR Doc. 2017-20010 Filed 9-20-17; 8:45 am]

BILLING CODE 7590-01-P